NUCLEAR REGULATORY COMMISSION

[Docket Nos. 50-315 and 50-316]

Indiana Michigan Power Company, Donald C. Cook Nuclear Plant, Units 1 And 2; Notice of Issuance of Renewed Facility Operating License Nos. DPR-58 And DPR-74 for An Additional 20-Year Period

Notice is hereby given that the U.S. Nuclear Regulatory Commission (NRC or the Commission) has issued Renewed Facility Operating License Nos. DPR-58 and DPR-74 to Indiana Michigan Power Company (licensee), the operator of the Donald C. Cook Nuclear Plant (CNP), Units 1 and 2. Renewed Facility Operating License No. DPR-58 authorizes operation of CNP, Unit 1, by the licensee at reactor core power levels not in excess of 3304 megawatts thermal, respectively in accordance with the provisions of the CNP renewed license and its Technical Specifications. Renewed Facility Operating License No. DPR-74 authorizes operation of CNP, Unit 2, by the licensee at reactor core power levels not in excess of 3468 megawatts thermal, respectively in accordance with the provisions of the CNP renewed license and its Technical Specifications.

CNP Units 1 and 2 are Pressure Water Reactors located in Bridgman, Michigan. The licensee's application for the renewed license complied with the standards and requirements of the Atomic Energy Act of 1954, as amended (the Act), and the Commission's regulations. As required by the Act and the Commission's regulations in 10 CFR Chapter 1, the Commission has made appropriate findings, which are set forth in each license. Prior public notice of the action involving the proposed issuance of the renewed license and of an opportunity for a hearing regarding the proposed issuance of the renewed license was published in the Federal Register on December 10, 2003 (68 FR 68956).

For further details with respect to this action, see (1) Indiana Michigan Power Company's license renewal application for Donald C. Cook Nuclear Plant, Units 1 and 2 dated October 31, 2003, as supplemented by letters dated through March 24, 2005; (2) the Commission's safety evaluation report, dated July 2005 (NUREG-1831); and (3) the Commission's final environmental impact statements (NUREG-1437, Supplement 20, for the Donald C. Cook Nuclear Plant, Units 1 and 2, dated May 2005). These documents are available at the NRC's Public Document Room, One White Flint North, 11555 Rockville Pike, Rockville, MD 20852 and can be viewed from the NRC Public Electronic Reading Room at http://www.nrc.gov/reading-rm/adams.html.

Copies of Renewed Facility Operating License Nos. DPR-58 and DPR-74 may be obtained by writing to the U.S. Nuclear Regulatory Commission, Washington, DC 20555-0001, Attention: Director, Division of Regulatory Improvement Programs. Copies of the Donald C. Cook Nuclear Plant, Units 1 and 2, Safety Evaluation Report (NUREG-1831) and the Final Environmental Impact Statements (NUREG-1437, Supplement 20) may be purchased from the National Technical Information Service, U.S. Department of Commerce, Springfield, VA 22161 (http://www.ntis.gov), 703-605-6000, or Attention: Superintendent of Documents, U.S. Government Printing Office, P.O. Box 371954 Pittsburgh, PA 15250-7954 (http://www.gpoaccess.gov), 202-512-1800. All orders should clearly identify the NRC publication number and the requestor's Government Printing Office deposit account number or VISA or MasterCard number and expiration date.

Dated at Rockville, Maryland, this 30th day of August 2005.
For the Nuclear Regulatory Commission.
Pao-Tsin Kuo,
Program Director, License Renewal and Environmental Impacts Program, Division of Regulatory Improvement Programs, Office of Nuclear Reactor Regulation.

[FR Doc. E5-4851 Filed 9-6-05; 8:45 am]

BILLING CODE 7590-01-P